DEPARTMENT OF COMMERCE

National Oceanic and Atmospheric Administration

RIN 0648-XD102

Council Coordination Committee Meeting; Correction

AGENCY: National Marine Fisheries Service (NMFS), National Oceanic and Atmospheric Administration (NOAA), Commerce.

ACTION: Notice of a public meeting; correction.

SUMMARY: NMFS will host a meeting of the Council Coordination Committee (CCC), consisting of the Regional Fishery Management Council chairs, vice chairs, and executive directors in February 2014. The intent of this meeting is to discuss issues of relevance to the Councils, including budget allocations for FY2014 and budget planning for FY2015 and beyond, FY2014 Priorities, update from the Marine Fisheries Advisory Committee Endangered Species Act work group report and the seafood certification process, fisheries allocation, national science program review, electronic monitoring workshop report, Magnuson-Stevens Fishery Conservation and Management Act (MSA) reauthorization, National Fish Habitat Partnership Board's consideration of habitat in the fishery management process, and other topics related to implementation of the MSA. This document corrects an agenda topic for Thursday, February 20, 2014 meeting scheduled from 2:45-3:45 that was published in the Federal Register on January 31, 2014. All other information relating to the proposed agenda remains the same and will not be repeated in this document.

DATES: The meeting will begin at 9 a.m. on Wednesday, February 19, 2014, recess at 5:30 p.m. or when business is complete; and reconvene at 9 a.m. on Thursday, February 20, 2014, and adjourn by 4:30 p.m. or when business is complete.

ADDRESSES: The meeting will be held at the Holiday Inn Capitol Hill, 550 C Street SW., Washington, DC 20024, telephone 202-479-4000, fax 202-288-4627.

FOR FURTHER INFORMATION CONTACT: William D. Chappell: Telephone 301-427-8505 or email at William.Chappell@noaa.gov; or Tara Scott: Telephone 301-427-8505 or email at Tara.Scott@noaa.gov.

SUPPLEMENTARY INFORMATION:

Correction

In the Federal Register of January 31, 2014, in FR Doc. 2014-02074, on page 5381, in the second column, the agenda for 2:45-3:45, February 20, 2014 meeting is corrected to read:

Proposed Agenda

Thursday, February 20, 2014

2:45-3:45 NOAA's Habitat Conservation Initiatives and Partnership Opportunities.

Special Accommodations

This meeting is physically accessible to people with disabilities. Requests for sign language interpretation or other auxiliary aids should be directed to Tara Scott at 301-427-8505 at least five working days prior to the meeting.

Dated: January 31, 2014.
William D. Chappell,
Acting Deputy Director, Office of Sustainable Fisheries, National Marine Fisheries Service.

[FR Doc. 2014-02467 Filed 2-5-14; 8:45 am]

BILLING CODE 3510-22-P